NATIONAL INDIAN GAMING COMMISSION

25 CFR Part 542

Minimum Internal Control Standards

AGENCY: National Indian Gaming Commission.

ACTION: Advance notice of proposed rulemaking: Notice of extension of time.

SUMMARY: On November 27, 2000, the National Indian Gaming Commission (Commission) issued an advance notice of proposed rulemaking (65 FR 70673, November 27, 2000) proposing to revise its regulations establishing minimum internal control standards (MICS) for gaming operations on Indian land. The date for filing comments is being extended.

DATES: Comments shall be filed on or before March 30, 2001.

ADDRESSES: Comments may be mailed to Minimum Internal Control Standards, First Revision Comments, National Indian Gaming Commission, Suite 9100, 1441 L Street, NW., Washington, DC 20005. Fax number: 202-632-7066 (not a toll-free number). Public comments may be delivered or inspected from 9 a.m. until noon and from 2 p.m. to 5 p.m., Monday through Friday.

FOR FURTHER INFORMATION CONTACT: Joe H. Smith at 503-326-7050, or by facsimile at 503-326-5092 (not a toll free number).

SUPPLEMENTARY INFORMATION: The Indian Gaming Regulatory Act (IGRA), 25 U.S.C. 2701-2721, was signed into law on October 17, 1988, creating the Commission and establishing a comprehensive system for regulating gambling activities on Indian lands. Following a thorough rulemaking process, that included a tribal advisory committee and public hearings, the Commission determined that minimum internal control standards were needed to ensure the integrity of gaming on Indian lands and to safeguard this source of tribal revenues. On January 5, 1999, the Commission published its Minimum Internal Control Standards, 25 CFR Part 542. In developing the MICS, the Commission anticipated that the regulation would be subject to periodic revision to maintain consistency with evolving technology and sound practice in the gaming industry. The Commission recognized the importance of ensuring that tribal gaming operations were not locked into internal control systems that contained unworkable requirements or that laced those operations at a competitive disadvantage. Overall, implementation of the MICS has had a positive impact on the ability of tribal oversight officials and the Commission to identify potential threats to the integrity of Indian gaming operations. As anticipated, however, in the period since publication of the MICS, there have been changes in Indian gaming and gaming technology that may need to be reflected in the MICS. Additionally, as gaming tribes and the Commission have gained practical experience with the MICS, it has become apparent that there are some technical errors in the regulation and that some of the standards themselves may not be operating as the Commission has intended.

Montie R. Deer,
Chairman, National Indian Gaming Commission.

[FR Doc. 01-4971 Filed 2-28-01; 8:45 am]

BILLING CODE 7565-01-U